NATIONAL CREDIT UNION ADMINISTRATION

Sunshine Act Meeting

The National Credit Union Administration Board determined that its business required the deletion of an additional item from the previously announced closed meeting (Federal Register, Vol. 65, No. 7, page 1647, Tuesday, January 11, 2000) scheduled for Thursday, January 13, 2000.

5. One (1) Personnel Action. Closed pursuant to exemptions (2), (5), (6), (7) and (9) (B).

The Board voted two-to-one, Board Member Dollar voting no, that agency business required that this item be deleted from the closed agenda and that no earlier announcement of this change was possible.

The National Credit Union Administration Board had announced also, that its business required the deletion of the following item from the previously announced closed meeting.

1. Administrative Action under Section 206 of the Federal Credit Union Act. Closed pursuant to exemptions (8), (9)(A)(ii) and (9)(B).

The Board voted unanimously that agency business required that the item be deleted from the closed agenda and that no earlier announcement of that change was possible.

The previously announced items were:

1. Administrative Action under Section 206 of the Federal Credit Union Act. Closed pursuant to exemptions (8), (9)(A)(ii) and (9)(B).

2. Administrative Action under Sections 206 and 208 of the Federal Credit Union Act. Closed pursuant to exemptions (8), (9)(A)(ii) and (9)(B).

3. Administrative Actions under part 704 of NCUA's Rules and Regulations. Closed pursuant to exemption (8).

4. Administrative Action under part 703 of NCUA's Rules and Regulations. Closed pursuant to exemptions (8), (9)(A)(ii) and (9)(B).

5. One (1) Personnel Action. Closed pursuant to exemptions (2), (5), (6), (7) and (9)(B).

FOR FURTHER INFORMATION CONTACT: Becky Baker, Secretary of the Board, Telephone (703) 518-6304.

Allan Meltzer,
Acting Secretary of the Board.

[FR Doc. 00-1399 Filed 1-14-00; 3:52 pm]

BILLING CODE 7535-01-M